FEDERAL COMMUNICATIONS COMMISSION

47 CFR Part 76

[MB Docket No. 23-203; FCC 24-29; FR ID 257860]

All-In Pricing for Cable and Satellite Television Service

AGENCY: Federal Communications Commission.

ACTION: Final rule; announcement of compliance date.

SUMMARY: In this document, the Federal Communications Commission (Commission or FCC) announces that the Office of Management and Budget (OMB) has approved, for a period of three years, an information collection associated with implementing the “all-in” rule, Truth in billing and advertising, adopted by the Commission on March 14, 2024, in the All-In Pricing for Cable and Satellite Television Report and Order (R&O), requiring cable operators and direct broadcast satellite (DBS) providers to specify the “all-in” price for video programming in their promotional materials that include pricing information and on subscribers' bills. This document is consistent with the R&O, which stated that the Commission would publish a document in the Federal Register announcing the compliance date of the “all-in” rule and revise the rule accordingly.

DATES:

Effective date: The amendment in this rule is effective November 6, 2024.

Compliance dates: The compliance date for 47 CFR 76.310, published on April 19, 2024, at 89 FR 28660, and effective April 19, 2024, is December 19, 2024, except that for cable operators with annual receipts of $47 million or less, compliance is not required until March 19, 2025.

FOR FURTHER INFORMATION CONTACT: Joseph Price of the Policy Division, Media Bureau, (202) 418-1423, or by email to Joseph.Price@fcc.gov.

SUPPLEMENTARY INFORMATION: This document announces that OMB approved the information collection requirements in 47 CFR 76.310 on September 23, 2024.

The Commission publishes this document as an announcement of the compliance date of the rules. If you have any comments on the burden estimates listed below, or how the Commission can improve the collections and reduce any burdens caused thereby, please contact Nicole Ongele, Federal Communications Commission, 45 L Street NE, Washington, DC 20554, regarding OMB Control Number 3060-1328. Please include the applicable OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on September 23, 2024, for the information collection requirements contained in 47 CFR 76.310.

Under 5 CFR part 1320, an agency may not conduct or sponsor a collection of information unless it displays a current, valid OMB Control Number.

No person shall be subject to any penalty for failing to comply with a collection of information subject to the Paperwork Reduction Act that does not display a current, valid OMB Control Number. The foregoing notification is required by the Paperwork Reduction Act of 1995, Public Law 104-13, October 1, 1995, and 44 U.S.C. 3507.

The total annual reporting burdens and costs for the respondents are as follows:

OMB Control Number: 3060-1330.

OMB Approval Date: September 23, 2024.

OMB Expiration Date: September 30, 2027.

Title: Section 76.310, Truth in Billing and Advertising.

Form Number: N/A.

Respondents: Business or other for-profit entities.

Number of Respondents and Responses: 400 respondents; 54,000,400 responses.

Estimated Time per Response: 0.0001 hours-0.5 hours.

Frequency of Response: On occasion reporting requirement; Third party disclosure requirement.

Obligation to Respond: Required to obtain or retain benefits. Statutory authority for this collection is contained in sections 1, 4(i), 303, 316, 335(a), 632(b), and 642 of the Communications Act of 1934, as amended, 47 U.S.C. 151, 154(i), 303, 316, 335(a), 552(b), and 562.

Total Annual Burden: 5,600 hours.

Total Annual Cost: No cost.

Needs and Uses: The collection will advance the public interest and safety because the “all-in” rule requires cable operators and direct broadcast satellite (DBS) providers to specify the “all-in” price for video programming in their promotional materials that includes pricing information and on subscribers' bills; the “all-in” rule is intended to increase transparency and promote competition in the video programming marketplace by allowing consumers to make better informed choices among the ranges of video programming service options available to them.

List of Subjects in 47 CFR Part 76

Television.

Federal Communications Commission.
Marlene Dortch,
Secretary, Office of the Secretary.

For the reasons discussed in the preamble, the Federal Communications Commission amends 47 CFR part 76 as follows:

PART 76—MULTICHANNEL VIDEO AND CABLE TELEVISION SERVICE

1. The authority citation for part 76 continues to read as follows:

Authority: 47 U.S.C. 151, 152, 153, 154, 301, 302, 302a, 303, 303a, 307, 308, 309, 312, 315, 317, 325, 335, 338, 339, 340, 341, 503, 521, 522, 531, 532, 534, 535, 536, 537, 543, 544, 544a, 545, 548, 549, 552, 554, 556, 558, 560, 561, 562, 571, 572, 573.

2. Amend § 76.310 by revising paragraph (c) to read as follows:

§ 76.310 Truth in billing and advertising.

* * * * *

(c) Compliance with this section is required by December 19, 2024, except that for cable operators with annual receipts of $47 million or less, compliance is not required until March 19, 2025.

[FR Doc. 2024-25672 Filed 11-5-24; 8:45 am]

BILLING CODE 6712-01-P